AGENCY FOR INTERNATIONAL DEVELOPMENT

Advisory Committee on Voluntary Foreign Aid (ACVFA); Notice of Meeting

Pursuant to the Federal Advisory Committee Act, notice is hereby given of a meeting of the Advisory Committee on Voluntary Foreign Aid (ACVFA).

Date: Wednesday, March 11, 2009 (9 a.m. to 3 p.m., times may be adjusted).

Location: Jack Morton Auditorium, Media and Public Affairs Building, George Washington University, 805 21st Street, NW., Washington, DC 20052.

Please note that this is the anticipated agenda and is subject to change.

Keynote: The Administrator-designate, or if there is not yet a designated nominee, the Acting Administrator, Alonzo Fulgham, will present an update from the front office of USAID on the future direction of USAID under the new Administration.

Reflections from the Advisory Committee on Voluntary Foreign Aid: The ACVFA offers its perspective on three important issues which have received significant contributions: leadership, partnership, and a strengthened USAID development capacity for discussion.

The meeting is free and open to the public. Persons wishing to attend the meeting can register online at http://www.usaid.gov/about_usaid/acvfa or with Deborah Lewis at dlewis@usaid.gov or 202-712-0936.

Dated: February 2, 2009.
Deborah Lewis,
Office of the Chief Operating Officer, U.S. Agency for International Development.

[FR Doc. E9-3353 Filed 2-13-09; 8:45 am]

BILLING CODE 6116-02-P